DEPARTMENT OF DEFENSE

Department of the Army; Corps of Engineers

Intent To Prepare an Environmental Impact Statement for the Floyd County, Kentucky (Levisa Fork Basin), Section 202 Project

AGENCY: Department of the Army, U.S. Army Corps of Engineers, DoD.

ACTION: Notice of intent.

SUMMARY: Pursuant to the National Environmental Policy Act (NEPA), the U.S. Army Corps of Engineers, DoD, Huntington District will prepare an Environmental Impact Statement (EIS). The EIS will evaluate potential impacts to the natural, physical, and human environment as a result of the proposed flood damage reduction measure for the Levisa Fork basin in Floyd County, Kentucky.

The Corps of Engineers will conduct a public scoping meeting (see DATES) to gain input from interested agencies, organizations, and the general public concerning the content of the EIS, issues and impacts to be addressed in the EIS, and alternatives that should be analyzed.

DATES: A scoping meeting is scheduled for Nov. 13, 2003, 4:30-7:30 p.m. at Prestonsburg High School, 825 Blackcat Boulevard, Prestonsburg, KY 41649.

ADDRESSES: Send written comments and suggestions concerning this proposed project to S. Michael Worley PM-PD, U.S. Army Corps of Engineers, Huntington District, 502 Eight Street, Huntington, WV 25701-2070. Telephone: (304) 399-5802. Electronic mail: Stephen M. Worley@Lrh01.usacre.army.mil. Requests to be placed on the mailing list should also be sent to this address.

FOR FURTHER INFORMATION CONTACT: Ms. Tammy Conforti PM-PD-S, U.S. Army Corps of Engineers, Huntington District, 502 Eighth Street, Huntington, WV 25701-2070. Telephone (304) 399-5834. Electronic mail: Tammyr@Lrh.usacre.army.mil

SUPPLEMENTARY INFORMATION: 1. Authority: The proposed project is authorized under section 202 of the Water Resources Development Act (WRDA) of 1996, which provides the Corps authority to “* * * design and construct flood control measures relating to the Levisa and Tug Fork of the Big Sandy river and Cumberland River, West Virginia, Kentucky and Virginia''.

2. Background: Since the earliest Levisa Fork Basin settlements, the residents faced the problem of frequent and severe flooding. Many Floyd County communities within the floodplain of the Levisa and Russell Fork and tributaries were devastated by the April 1977 flood, which was the flood of record for much of the region. A significant flood again inundated the Levisa Fork communities in May of 1984. Congressional reaction to these flood events resulted in the inclusion of funds and language in various legislative directives that mandated expeditious implementation of flood damage reduction measures within the study area covered by the Huntington District's Section 202 General Plan.

The study area, primarily residential in nature, includes the incorporated areas of Prestonsburg and unincorporated areas in the county subject to flood damage from the potential of a reoccurrence of the April 1977 flood. The project requires providing flood protection measures to approximately 2,000 structures, 75 percent of which are residential.

Alternatives being initially considered include floodwall/levee systems protecting Prestonsburg, non-structural flood-proofing and several ring walls protecting individual structures. Alternatives to be evaluated in detail in the Draft EIS will be selected from those described above.

3. Public Participation: The Corps invites full public participation to promote open communication and better decision-making. All persons and organizations that have an interest in the Levisa Fork Basin Flooding problems as they affect Floyd County and the environment are urged to participate in this NEPA environmental analysis process. Assistance will be provided upon request to anyone having difficulty with learning how to participate.

Public comments are welcomed anytime throughout the NEPA process. Formal opportunities for public participation include: (1) A public meeting in the community of Prestonsburg, KY (see DATES); (2) Anytime during the NEPA process via mail, telephone or e-mail; (3) During Review and Comment on the Draft EIS—approximately January of 2004; and (4) Review of the Final EIS—Fall 2004. Schedules and locations will be announced in local news media. Interested parties should submit contact information to be included on the mailing list for public distribution of meeting announcements and documents (See ADDRESSES).

Luiz D. Ortiz,
Army Federal Register Liaison Officer.

[FR Doc. 03-27359 Filed 10-29-03; 8:45 am]

BILLING CODE 3710-6M-M